ENVIRONMENTAL PROTECTION AGENCY

[ER-FRL-9047-5]

Environmental Impact Statements; Notice of Availability

Responsible Agency: Office of Federal Activities, General Information 202-564-5632 or https://www.epa.gov/ nepa/.

Weekly receipt of Environmental Impact Statements

Filed 10/07/2019 10 a.m. ET Through 10/14/2019 10 a.m. ET

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190252, Draft, USFS, AZ, 4FRI Rim Country Project, Comment Period Ends: 01/16/2020, Contact: Robbin Redman 928-527-3635

EIS No. 20190253, Draft, BLM, NV, Coeur Rochester and Packard Mines Plan of Operations, Amendment 11, Comment Period Ends: 12/02/2019, Contact: Kathleen Rehberg 775-623-1500

EIS No. 20190254, Draft, USFS, AK, Rulemaking for Alaska Roadless Areas, Comment Period Ends: 12/18/2019, Contact: Ken Tu 202-403-8991

Amended Notice

EIS No. 20190201, Final, BLM, UT, Grand Staircase-Escalante National Monument-Grand Staircase, Kaiparowits, and Escalante Canyon Units and Federal Lands previously included in the Monument that are excluded from the Boundaries Draft Resource Management Plans and Final Environmental Impact Statement, Review Period Ends:11/18/2019, Contact: Harry Barber 435-644-1200

Revision to FR Notice Published08/23/2019; BLM has reopened the review period to end on 11/18/2019.

Dated: October 15, 2019.
Robert Tomiak,
Director, Office of Federal Activities.

[FR Doc. 2019-22759 Filed 10-17-19; 8:45 am]

BILLING CODE 6560-50-P